DEPARTMENT OF ENERGY

Federal Energy Regulatory Commission

[Project No. 15094-002]

Ohio Power and Light, LLC; Notice of Application Ready for Environmental Analysis and Soliciting Comments, Recommendations, Terms and Conditions, and Prescriptions; Intent To Prepare an Environmental Assessment; and Anticipated Schedule

Take notice that the following hydroelectric application has been filed with the Commission and is available for public inspection.

a. Type of Application: Original Major License.

b. Project No.: 15094-002.

c. Date filed: January 23, 2025.

d. Applicant: Ohio Power and Light, LLC.

e. Name of Project: Robert C. Byrd Locks and Dam Hydroelectric Project (RC Byrd Project or project).

f. Location: On the Ohio River in Mason County, West Virginia, at the U.S. Army Corps of Engineers' (Corps) Robert C. Byrd Locks and Dam. The project would occupy 18.29 acres of federal land managed by the Corps.

g. Filed Pursuant to: Federal Power Act 16 U.S.C. 791(a)-825(r).

h. Applicant Contact: Mr. Jeremy King, P.E., Chief Executive Officer, Current Hydro LLC (agent for the applicant, Ohio Power and Light, LLC), One Boston Place, Suite 2600, Boston, MA 02108, Telephone: (706) 835-8516, Email: jeremy@currenthydro.com; and Ms. Hailee Kessell, Director of Regulatory Affairs, Current Hydro LLC, One Boston Place, Suite 2600, Boston, MA 02108, Telephone: (315) 558-9834, Email: hailee@currenthydro.com.

i. FERC Contact: Andy Bernick at (202) 502-8660, or andrew.bernick@ferc.gov.

j. Deadline for filing comments, recommendations, terms and conditions, and prescriptions: on or before 5:00 p.m. Eastern Time on March 16, 2026; reply comments are due on or before 5:00 p.m. Eastern Time on April 29, 2026.

The Commission strongly encourages electronic filing. Please file comments, recommendations, terms and conditions, and prescriptions using the Commission's eFiling system at https://ferconline.ferc.gov/FERCOnline.aspx. Commenters can submit brief comments up to 10,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Robert C. Byrd Locks and Dam Hydroelectric Project (P-15094-002).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time and a single environmental assessment (EA) will be prepared.¹

¹ The unique identification number for documents relating to this environmental review is EAXX-019-20-000-1767861985.

l. The proposed RC Byrd Project would be constructed at the two parallel decommissioned lock chambers on the West Virginia side of RC Byrd Locks and Dam and would consist of the following new facilities: (1) two 110-foot-wide, 850-foot-long intake channels with trash racks (with a clear spacing of 5 inches); (2) two 110-foot-wide, 142.5-foot-long, and 71-foot-high concrete powerhouses within the decommissioned lock chambers; (3) three horizontal pit Kaplan turbine-generator units in each powerhouse with a total installed capacity of 28.5 megawatts (MW) for both powerhouses; (4) two 110-foot-wide, 955-foot-long tailrace channels; (5) a 213-foot-long, 12.47-kilovolt (kV) underground generator lead from each powerhouse to a new 110-foot-long and 110-foot-wide substation containing a 12.47-kV/69-kV step-up transformer; (6) a 2.3-mile-long, 69-kV overhead transmission line connecting the project to the point of interconnection at the existing Apple Grove substation; (7) a new 170-foot-long access road between the existing Corps facility access road and a parking area; and (8) appurtenant facilities.

The proposed RC Byrd Project would operate in a run-of-release mode, whereby outflow from the project would approximate inflow made available for generation by the Corps. The RC Byrd Project is projected to have an annual energy generation of about 165,169 megawatt-hours.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

All filings must (1) bear in all capital letters the title “COMMENTS,” “REPLY COMMENTS,” “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

You may also register online at https://ferconline.ferc.gov/FERCOnline.aspx to be notified via email of new filings and issuances related to this or other pending projects. For assistance, contact FERC Online Support.

n. The applicant must file the following on or before 5:00 p.m. Eastern Time on March 16, 2026: (1) copy of the water quality certification; (2) a copy of the request for certification, including proof of the date on which the certifying agency received the request; or (3) evidence of a waiver of water quality certification.

o. Final amendments to the application must be filed with the Commission on or before 5:00 p.m. Eastern Time on February 13, 2026.

p. The project is covered under Title 41 of the Fixing America's Surface Transportation Act (FAST-41). Under FAST-41, agencies are to publish completion dates for all federal environmental reviews and authorizations. This notice identifies the Commission's anticipated schedule for issuance of the single Environmental Assessment.

Issue Single Environmental Assessment: September 29, 2026

A future notice will identify the Commission's anticipated schedule for issuance of the final license order for the project, pending information received on the anticipated schedule for completion of consultation under section 7 of the Endangered Species Act and the expected date of the applicant's request for water quality certification under section 401 of the Clean Water Act.

(Authority: 18 CFR 2.1)

Dated: January 14, 2026.
Debbie-Anne A. Reese,
Secretary.

[FR Doc. 2026-00979 Filed 1-16-26; 8:45 am]

BILLING CODE 6717-01-P